DEPARTMENT OF HOMELAND SECURITY

Coast Guard

33 CFR Parts 100, 117, 147, and 165

[USCG-2009-0909]

Quarterly Listings; Safety Zones, Security Zones, Special Local Regulations, Regulated Navigation Areas, and Drawbridge Operation Regulations

AGENCY: Coast Guard, DHS.

ACTION: Notice of expired temporary rules issued.

SUMMARY: This document provides required notice of substantive rules issued by the Coast Guard and temporarily effective between February 2006 and January 2008, that expired before they could be published in the Federal Register. This notice lists temporary safety zones, security zones, special local regulations, regulated navigation areas and drawbridge operation regulations, all of limited duration and for which timely publication in the Federal Register was not possible.

DATES: This document lists temporary Coast Guard rules between February 9, 2006 and January 12, 2008 that became effective and were terminated before they could be published in the Federal Register.

ADDRESSES: The Docket Management Facility maintains the public docket for this notice. Documents indicated in this notice will be available for inspection or copying at the Docket Management Facility (M-30), U.S. Department of Transportation, West Building ground floor, room W12-140, 1200 New Jersey Avenue, SE., Washington, DC 20590 between 9 a.m. and 5 p.m., Monday through Friday, except federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials' on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register.

Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between February 2006 and January 2008, unless otherwise indicated.

Dated: September 30, 2009.
S.G. Venckus,
Chief, Office of Regulations and Administrative Law.

4th Quarter 2008 Listing
Docket No. | Location | Type | Effective date
CGD01-06-029 | Bridgeport, CT | Special Local Regulation (Parts 100) | 6/30/2006
CGD01-06-039 | North Kingstown, RI | Safety Zones (Parts 147 and 165) | 7/4/2006
CGD01-06-047 | Amagansett, NY | Special Local Regulation (Parts 100) | 7/1/2006
CGD01-06-048 | Stamford, CT | Special Local Regulation (Parts 100) | 7/3/2006
CGD01-06-050 | Nantucket Island, MA | Safety Zones (Parts 147 and 165) | 6/21/2006
CGD01-06-058 | Cape Neddick, ME | Safety Zones (Parts 147 and 165) | 5/16/2006
CGD01-06-075 | North Kingstown, RI | Safety Zones (Parts 147 and 165) | 6/24/2006
CGD01-06-094 | Rever, MA | Safety Zones (Parts 147 and 165) | 7/15/2006
CGD01-06-101 | South Bristol, ME | Safety Zones (Parts 147 and 165) | 7/20/2006
CGD01-06-106 | Water Mill, NY | Safety Zones (Parts 147 and 165) | 8/19/2006
CGD01-06-125 | Bay Shore, NY | Safety Zones (Parts 147 and 165) | 10/22/2006
CGD01-06-136 | Danvers, MA | Safety and Security Zones (Parts 147 and 165) | 11/28/2006
CGD01-06-137 | Kittery, ME | Safety Zones (Parts 147 and 165) | 11/29/2006
CGD01-06-143 | Kittery, ME | Safety Zones (Parts 147 and 165) | 12/18/2006
CGD01-07-013 | Narragansett Bay, RI | Security Zones (Part 165) | 6/27/2007
CGD01-07-039 | Salisbury, MA | Safety Zones (Parts 147 and 165) | 4/10/2007
CGD01-07-084 | Asharoken, NY | Safety Zones (Parts 147 and 165) | 7/4/2007
CGD01-07-085 | Boston, MA | Safety Zones (Parts 147 and 165) | 7/21/2007
CGD01-07-088 | Great South Bay, NY | Safety Zones (Parts 147 and 165) | 7/25/2007
CGD01-07-094 | Jennings Beach, CT | Safety Zones (Parts 147 and 165) | 7/7/2007
CGD01-07-097 | Port land Harbor, ME | Safety Zones (Parts 147 and 165) | 7/14/2007
CGD01-07-098 | Cherry Grove, NY | Safety Zones (Parts 147 and 165) | 8/4/2007
CGD01-07-099 | Westhampton, NY | Safety Zones (Parts 147 and 165) | 7/21/2007
CGD01-07-108 | Patchogue, NY | Safety Zones (Parts 147 and 165) | 8/25/2007
CGD01-07-126 | Gloucester, MA | Safety Zones (Parts 147 and 165) | 8/13/2007
CGD01-07-134 | Miller Place, NY | Safety Zones (Parts 147 and 165) | 9/15/2007
CGD05-05-062 | Surf City, NC | Safety Zones (Parts 147 and 165) | 6/14/2007
CGD05-06-012 | North Landing River, VA | Safety Zones (Parts 147 and 165) | 3/20/2006
CGD05-06-022 | Chesapeake Bay, MD | Special Local Regulation (Parts 100) | 6/11/2006
CGD05-06-032 | Somers Point, NJ | Special Local Regulation (Parts 100) | 6/4/2006
CGD05-06-034 | Washington, DC | Security Zones (Part 165) | 5/25/2006
CGD05-06-050 | Hampton, VA | Safety Zones (Parts 147 and 165) | 5/3/2006
CGD05-06-056 | Oxford, MD | Safety Zones (Parts 147 and 165) | 7/2/2006
CGD05-06-058 | Hampton, VA | Special Local Regulation (Parts 100) | 6/3/2006
CGD05-06-061 | Norfolk, VA | Special Local Regulation (Parts 100) | 6/9/2006
CGD05-06-073 | Elizabeth City, NC | Safety Zones (Parts 147 and 165) | 7/4/2006
CGD05-06-077 | Chesapeake Channel, MD | Safety Zones (Parts 147 and 165) | 7/18/2006
CGD05-06-095 | Piney Point, MD | Security Zones (Part 165) | 9/4/2006
CGD05-06-099 | Essington, PA | Safety Zones (Parts 147 and 165) | 9/16/2006
CGD05-06-102 | Annapolis, MD | Special Local Regulation (Parts 100) | 12/9/2006
CGD05-06-107 | Hopewell, VA | Safety Zones (Parts 147 and 165) | 12/2/2006
CGD05-06-111 | Alexandria Channel, DC | Safety Zones (Parts 147 and 165) | 12/3/2006
CGD05-06-115 | Wallops Island, VA | Security Zones (Part 165) | 12/11/2006
CGD05-06-116 | Alexandria Channel, DC | Safety Zones (Parts 147 and 165) | 12/9/2006
CGD07-06-150 | Dania Beach, FL | Special Local Regulation (Parts 100) | 7/16/2006
CGD07-06-162 | Miami Harbor, FL | Regulated Navigation Area (Parts147 and 165) | 7/31/2006
CGD07-06-214 | Miami, FL | Special Local Regulation (Parts 100) | 12/9/2006
CGD07-06-226 | Broward County, FL | Special Local Regulation (Parts 100) | 12/9/2006
CGD07-06-242 | Vero Beach, FL | Special Local Regulation (Parts 100) | 12/1/2006
CGD07-06-243 | Stuart, FL | Special Local Regulation (Parts 100) | 12/2/2006
CGD07-06-259 | Fort Pierce, FL | Special Local Regulation (Parts 100) | 12/9/2006
CGD07-06-260 | Charleston, SC | Special Local Regulation (Parts 100) | 12/2/2006
CGD07-07-008 | Joliet, IL | Drawbridge Operation Regulation (Part 117) | 5/12/2007
CGD07-07-018 | Joliet, IL | Drawbridge Operation Regulation (Part 117) | 8/4/2007
CGD07-07-027 | Clarksville, TN | Regulated Navigation Area (Parts 147 and 165) | 10/2/2007
CGD07-07-066 | Dania Beach, FL | Special Local Regulation (Parts 100) | 7/15/2007
CGD09-06-007 | Toledo, OH | Safety Zones (Parts 147 and 165) | 2/9/2006
CGD09-06-021 | Ellison Bay, WI | Safety Zones (Parts 147 and 165) | 7/12/2006
CGD09-06-022 | Milwaukee, WI | Safety Zones (Parts 147 and 165) | 4/24/2006
CGD09-06-023 | Charlevoix, MI | Safety Zones (Parts 147 and 165) | 4/29/2006
CGD09-06-028 | Detroit, MI | Security Zones (Part 165) | 5/16/2006
CGD09-06-033 | Toledo, OH | Safety Zones (Parts 147 and 165) | 5/26/2006
CGD09-06-034 | Cleveland, OH | Safety Zones (Parts 147 and 165) | 6/7/2006
CGD09-06-037 | Algonac, MI | Safety Zones (Parts 147 and 165) | 6/4/2006
CGD09-06-039 | Port Huron, MI | Safety Zones (Parts 147 and 165) | 6/24/2006
CGD09-06-048 | Grosse Ile, MI | Safety Zones (Parts 147 and 165) | 6/30/2006
CGD09-06-057 | Maumee River, OH | Safety Zones (Parts 147 and 165) | 7/11/2006
CGD09-06-071 | Fox Lake, IL | Safety Zones (Parts 147 and 165) | 7/1/2006
CGD09-06-080 | Duluth, MN | Safety Zones (Parts 147 and 165) | 7/4/2007
CGD09-06-080 | Kenosha, WI | Safety Zones (Parts 147 and 165) | 7/4/2006
CGD09-06-082 | Lapointe, WI | Safety Zones (Parts 147 and 165) | 7/4/2007
CGD09-06-082 | Springs, MI | Safety Zones (Parts 147 and 165) | 7/4/2006
CGD09-06-085 | Fish Creek, WI | Safety Zones (Parts 147 and 165) | 7/1/2006
CGD09-06-085 | Port Buffalo, NY | Safety Zones (Parts 147 and 165) | 7/29/2006
CGD09-06-086 | Harrisville, MI | Safety Zones (Parts 147 and 165) | 7/1/2006
CGD09-06-087 | Lake Michigan | Safety Zones (Parts 147 and 165) | 7/30/2006
CGD09-06-088 | Au Gres, MI | Safety Zones (Parts 147 and 165) | 7/2/2006
CGD09-06-090 | Bay Harbor Lake, MI | Safety Zones (Parts 147 and 165) | 7/3/2006
CGD09-06-091 | Chicago, IL | Safety Zones (Parts 147 and 165) | 7/3/2006
CGD09-06-092 | Cleveland, OH | Safety Zones (Parts 147 and 165) | 7/3/2006
CGD09-06-093 | Bay City, MI | Safety Zones (Parts 147 and 165) | 7/1/2006
CGD09-06-094 | Grosse Pointe Park, MI | Safety Zones (Parts 147 and 165) | 7/4/2006
CGD09-06-096 | Ludington, MI | Safety Zones (Parts 147 and 165) | 7/4/2006
CGD09-06-097 | Manitowoc, WI | Safety Zones (Parts 147 and 165) | 7/4/2006
CGD09-06-098 | Marinette, WI | Safety Zones (Parts 147 and 165) | 7/4/2006
CGD09-06-099 | Oscoda, MI | Safety Zones (Parts 147 and 165) | 7/4/2006
CGD09-06-100 | Petoskey, MI | Safety Zones (Parts 147 and 165) | 7/4/2006
CGD09-06-102 | Sheboygan, WI | Safety Zones (Parts 147 and 165) | 7/4/2006
CGD09-06-103 | Green Bay, WI | Safety Zones (Parts 147 and 165) | 7/4/2006
CGD09-06-106 | Boyne City, MI | Safety Zones (Parts 147 and 165) | 7/4/2006
CGD09-06-107 | Sturgeon Bay, WI | Safety Zones (Parts 147 and 165) | 7/4/2006
CGD09-06-108 | Traverse City, MI | Safety Zones (Parts 147 and 165) | 7/4/2006
CGD09-06-109 | Traverse City, MI | Safety Zones (Parts 147 and 165) | 7/8/2006
CGD09-06-112 | Milwaukee, WI | Safety Zones (Parts 147 and 165) | 7/14/2006
CGD09-06-115 | Frankfort, MI | Safety Zones (Parts 147 and 165) | 9/2/2007
CGD09-06-116 | Chicago, IL | Security Zones (Part 165) | 7/6/2006
CGD09-06-119 | Milwaukee, WI | Security Zones (Part 165) | 7/11/2006
CGD09-06-120 | Milwaukee, WI | Safety Zones (Parts 147 and 165) | 7/14/2006
CGD09-06-124 | Milwaukee, WI | Safety Zones (Parts 147 and 165) | 7/20/2006
CGD09-06-125 | Lake Michigan | Safety Zones (Parts 147 and 165) | 7/22/2006
CGD09-06-126 | Saugatuck, MI | Safety Zones (Parts 147 and 165) | 7/27/2006
CGD09-06-127 | Egg Harbor, WI | Safety Zones (Parts 147 and 165) | 7/23/2006
CGD09-06-128 | Tonawanda, NY | Safety Zones (Parts 147 and 165) | 7/23/2006
CGD09-06-129 | Racine, WI | Safety Zones (Parts 147 and 165) | 7/22/2006
CGD09-06-132 | Elk Rapids, MI | Safety Zones (Parts 147 and 165) | 8/5/2006
CGD09-06-133 | St. Joseph, MI | Safety Zones (Parts 147 and 165) | 8/5/2006
CGD09-06-134 | Menominee, WI | Safety Zones (Parts 147 and 165) | 8/5/2006
CGD09-06-136 | Milwaukee, WI | Safety Zones (Parts 147 and 165) | 8/17/2006
CGD09-06-137 | Chaumont Bay, NY | Safety Zones (Parts 147 and 165) | 7/29/2006
CGD09-06-138 | Racine, WI | Safety Zones (Parts 147 and 165) | 7/28/2006
CGD09-06-140 | Sault Ste. Marie, MI | Safety Zones (Parts 147 and 165) | 7/29/2006
CGD09-06-142 | Milwaukee, WI | Safety Zones (Parts 147 and 165) | 8/6/2006
CGD09-06-145 | Sheboygan, WI | Safety Zones (Parts 147 and 165) | 8/19/2006
CGD09-06-149 | Bay City, MI | Safety Zones (Parts 147 and 165) | 8/11/2006
CGD09-06-150 | Webster, NY | Safety Zones (Parts 147 and 165) | 8/12/2006
CGD09-08-001 | Detroit, MI | Security Zones (Part 165) | 1/12/2008
COTP Port Arthur-2007-001 | Orange, TX | Safety Zones (Parts 147 and 165) | 1/3/2007
COTP Port Arthur-2007-002 | Port Arthur, TX | Safety Zones (Parts 147 and 165) | 2/24/2007
COTP Port Arthur-2007-003 | Port Arthur, TX | Safety Zones (Parts 147 and 165) | 3/12/2007
COTP Port Arthur-2007-004 | Port Arthur, TX | Safety Zones (Parts 147 and 165) | 3/28/2007
COTP Port Arthur-2007-005 | Port Arthur, TX | Safety Zones (Parts 147 and 165) | 4/9/2007
COTP Port Arthur-2007-006 | Port Arthur, TX | Safety Zones (Parts 147 and 165) | 5/19/2007
COTP Port Arthur-2007-007 | Port Arthur, TX | Safety Zones (Parts 147 and 165) | 7/4/2007
COTP Port Arthur-2007-008 | Orange, TX | Safety Zones (Parts 147 and 165) | 6/9/2007
COTP Port Arthur-2007-009 | Port Arthur, TX | Safety Zones (Parts 147 and 165) | 6/9/2007
COTP Port Arthur-2007-010 | Port Arthur, TX | Safety Zones (Parts 147 and 165) | 6/9/2007
COTP Port Arthur-2007-011 | Beaumont, TX | Safety Zones (Parts 147 and 165) | 7/4/2007
COTP Port Arthur-2007-012 | Hackberry, LA | Safety Zones (Parts 147 and 165) | 8/20/2007
COTP Port Arthur-2007-013 | Orange, TX | Safety Zones (Parts 147 and 165) | 9/22/2007
COTP San Diego 06-003 | Point Loma, CA | Safety Zones (Parts 147 and 165) | 5/22/2006
COTP San Diego 06-011 | Parker, AZ | Safety Zones (Parts 147 and 165) | 3/27/2006
COTP San Diego 06-017 | Lake Havasu, AZ | Safety Zones (Parts 147 and 165) | 5/21/2006
COTP San Diego 06-022 | San Diego, CA | Safety Zones (Parts 147 and 165) | 7/21/2006
COTP San Diego 06-025 | Laughlin, NV | Safety Zones (Parts 147 and 165) | 6/10/2006
COTP San Diego 06-025 | Laughlin, NV | Safety Zones (Parts 147 and 165) | 7/2/2006
COTP San Diego 06-051 | San Diego, CA | Safety Zones (Parts 147 and 165) | 7/31/2006
COTP San Diego 06-051 | San Diego, CA | Safety Zones (Parts 147 and 165) | 7/13/2006
COTP San Diego 06-052 | San Diego, CA | Safety Zones (Parts 147 and 165) | 7/3/2006
COTP San Diego 06-052 | San Diego, CA | Safety Zones (Parts 147 and 165) | 8/10/2006
COTP San Diego 06-052 | San Diego, CA | Safety Zones (Parts 147 and 165) | 7/4/2006
COTP San Diego 06-052 | San Diego, CA | Safety Zones (Parts 147 and 165) | 7/18/2006
COTP San Diego 06-052 | Ocean Beach, CA | Safety Zones (Parts 147 and 165) | 5/17/2006
COTP San Diego 06-052 | Oceanside, CA | Safety Zones (Parts 147 and 165) | 4/30/2006
COTP Savannah-2007-017 | Savannah, GA | Security Zones (Part 165) | 1/24/2007
COTP Savannah-2007-078 | Savannah, GA | Security Zones (Part 165) | 4/12/2007
COTP Savannah-2007-159 | Savannah, GA | Security Zones (Part 165) | 6/26/2007
COTP Savannah-2007-166 | Savannah, GA | Safety Zones (Parts 147 and 165) | 7/4/2007
COTP Savannah-2007-168 | Savannah, GA | Security Zones (Part 165) | 7/6/2007
COTP Savannah-2007-182 | Savannah, GA | Security Zones (Part 165) | 8/1/2007
COTP Savannah-2007-188 | Savannah, GA | Safety Zones (Parts 147 and 165) | 8/15/2007
COTP Savannah-2007-189 | Savannah, GA | Security Zones (Part 165) | 8/16/2007
COTP Savannah-2007-211 | Savannah, GA | Security Zones (Part 165) | 9/12/2007
COTP Savannah-2007-236 | Savannah, GA | Security Zones (Part 165) | 10/3/2007
COTP Savannah-2007-239 | Savannah, GA | Security Zones (Part 165) | 10/5/2007
COTP Savannah-2007-243 | Savannah, GA | Security Zones (Part 165) | 10/11/2007
COTP Savannah-2007-247 | Savannah, GA | Security Zones (Part 165) | 10/13/2007
COTP Savannah-2007-248 | Savannah, GA | Security Zones (Part 165) | 10/15/2007
COTP Savannah-2007-259 | Savannah, GA | Security Zones (Part 165) | 10/25/2007
COTP Savannah-2007-260 | Savannah, GA | Security Zones (Part 165) | 10/25/2007
COTP Savannah-2007-263 | Savannah, GA | Security Zones (Part 165) | 10/30/2007
COTP Savannah-2007-264 | Savannah, GA | Security Zones (Part 165) | 10/31/2007
COTP Savannah-2007-269 | Savannah, GA | Security Zones (Part 165) | 11/9/2007
COTP Southeastern Alaska-2007-001 | Juneau, AK | Safety Zones (Parts 147 and 165) | 5/14/2007
COTP St. Petersburg-2007-003 | Tampa Bay, FL | Safety Zones (Parts 147 and 165) | 1/16/2007
COTP St. Petersburg-2007-011 | Gulf of Mexico, FL | Safety Zones (Parts 147 and 165) | 1/25/2007
COTP St. Petersburg-2007-026 | Tampa Bay, FL | Safety Zones (Parts 147 and 165) | 2/10/2007
COTP St. Petersburg-2007-029 | Tampa Bay, FL | Safety Zones (Parts 147 and 165) | 3/30/2007
COTP St. Petersburg-2007-030 | Tampa Bay, FL | Safety Zones (Parts 147 and 165) | 2/13/2007
COTP St. Petersburg-2007-038 | Tampa Bay, FL | Safety Zones (Parts 147 and 165) | 2/21/2007
COTP St. Petersburg-2007-044 | Tampa Bay, FL | Safety Zones (Parts 147 and 165) | 2/12/2007
COTP St. Petersburg-2007-045 | Tampa Bay, FL | Safety Zones (Parts 147 and 165) | 3/30/2007
COTP St. Petersburg-2007-050 | Clearwater, FL | Safety Zones (Parts 147 and 165) | 3/26/2007
COTP St. Petersburg-2007-054 | Tampa Bay, FL | Safety Zones (Parts 147 and 165) | 3/15/2007
COTP St. Petersburg-2007-056 | St. Petersburg, FL | Safety Zones (Parts 147 and 165) | 4/7/2007
COTP St. Petersburg-2007-069 | St. Petersburg, FL | Safety Zones (Parts 147 and 165) | 4/29/2007
COTP St. Petersburg-2007-081 | Clearwater Harbor, FL | Safety Zones (Parts 147 and 165) | 4/22/2007
COTP St. Petersburg-2007-100 | Treasure Island, FL | Safety Zones (Parts 147 and 165) | 4/26/2007
COTP St. Petersburg-2007-104 | Ft. Myers Beach, FL | Safety Zones (Parts 147 and 165) | 4/25/2007
COTP St. Petersburg-2007-137 | Clearwater, FL | Safety Zones (Parts 147 and 165) | 5/30/2007
COTP St. Petersburg-2007-144 | St. Petersburg, FL | Safety Zones (Parts 147 and 165) | 7/4/2007
COTP St. Petersburg-2007-145 | Ft. Myers Beach, FL | Safety Zones (Parts 147 and 165) | 6/20/2007
COTP St. Petersburg-2007-146 | Gulf of Mexico, FL | Safety Zones (Parts 147 and 165) | 6/25/2007
COTP St. Petersburg-2007-149 | Gulf of Mexico, FL | Safety Zones (Parts 147 and 165) | 6/8/2007
COTP St. Petersburg-2007-150 | Gulf of Mexico, FL | Safety Zones (Parts 147 and 165) | 6/11/2007
COTP St. Petersburg-2007-151 | Tampa Bay, FL | Safety Zones (Parts 147 and 165) | 6/9/2007
COTP St. Petersburg-2007-152 | Tampa Bay, FL | Security Zones (Part 165) | 6/11/2007
COTP St. Petersburg-2007-153 | Tampa Bay, FL | Security Zones (Part 165) | 6/12/2007
COTP St. Petersburg-2007-154 | Peace River, FL | Safety Zones (Parts 147 and 165) | 7/4/2007
COTP St. Petersburg-2007-156 | Tampa Bay, FL | Safety Zones (Parts 147 and 165) | 7/13/2007
COTP St. Petersburg-2007-158 | Gulf of Mexico, FL | Safety Zones (Parts 147 and 165) | 6/27/2007
COTP St. Petersburg-2007-173 | Gulf of Mexico, FL | Safety Zones (Parts 147 and 165) | 8/23/2007
COTP St. Petersburg-2007-175 | Tampa Bay, FL | Safety Zones (Parts 147 and 165) | 10/19/2007
COTP St. Petersburg-2007-177 | San Carlos Bay, FL | Safety Zones (Parts 147 and 165) | 7/24/2007
COTP St. Petersburg-2007-183 | San Carlos Bay, FL | Safety Zones (Parts 147 and 165) | 8/2/2007
COTP St. Petersburg-2007-184 | Gulf of Mexico, FL | Safety Zones (Parts 147 and 165) | 8/13/2007
COTP St. Petersburg-2007-185 | St. Petersburg, FL | Safety Zones (Parts 147 and 165) | 8/7/2007
COTP St. Petersburg-2007-198 | Homosassa, FL | Safety Zones (Parts 147 and 165) | 9/22/2007
COTP St. Petersburg-2007-200 | Garrison Channel, FL | Security Zones (Part 165) | 8/26/2007
COTP St. Petersburg-2007-206 | Gulf of Mexico, FL | Safety Zones (Parts 147 and 165) | 9/5/2007
COTP St. Petersburg-2007-216 | Tampa Bay, FL | Security Zones (Part 165) | 9/14/2007
COTP St. Petersburg-2007-220 | Tampa Bay, FL | Safety Zones (Parts 147 and 165) | 9/19/2007
COTP St. Petersburg-2007-221 | Tampa Bay, FL | Safety Zones (Parts 147 and 165) | 10/9/2007
COTP St. Petersburg-2007-222 | Clearwater, FL | Safety Zones (Parts 147 and 165) | 11/8/2007
COTP St. Petersburg-2007-223 | Gulf of Mexico, FL | Safety Zones (Parts 147 and 165) | 11/9/2007
COTP St. Petersburg-2007-224 | Garrison Channel, FL | Safety Zones (Parts 147 and 165) | 11/11/2007
COTP St. Petersburg-2007-225 | San Carlos Bay, FL | Safety Zones (Parts 147 and 165) | 9/25/2007
COTP St. Petersburg-2007-240 | Garrison Channel, FL | Security Zones (Part 165) | 10/13/2007
COTP St. Petersburg-2007-244 | Old Tampa Bay, FL | Security Zones (Part 165) | 10/12/2007
COTP St. Petersburg-2007-254 | Clearwater Harbor, FL | Safety Zones (Parts 147 and 165) | 11/3/2007
COTP St. Petersburg-2006-255 | Tampa Bay, FL | Safety Zones (Parts 147 and 165) | 11/21/2006
COTP St. Petersburg-2007-268 | Tampa Bay, FL | Safety Zones (Parts 147 and 165) | 11/13/2007
COTP St. Petersburg-2007-270 | Alafia River, FL | Safety Zones (Parts 147 and 165) | 11/12/2007
COTP Upper Mississippi River-2007-001 | ST. Louis, MO | Security Zones (Part 165) | 1/30/2007
COTP Upper Mississippi River-2007-003 | Evansville, IL | Safety Zones (Parts 147 and 165) | 3/27/2007
COTP Upper Mississippi River-2007-004 | St. Louis, MO | Safety Zones (Parts 147 and 165) | 3/31/2007
COTP Upper Mississippi River-2007-005 | St. Louis, MO | Safety Zones (Parts 147 and 165) | 4/15/2007
COTP Upper Mississippi River-2007-006 | St. Louis, MO | Safety Zones (Parts 147 and 165) | 4/28/2007
COTP Upper Mississippi River-2007-007 | St. Louis, MO | Safety Zones (Parts 147 and 165) | 4/27/2007
COTP Upper Mississippi River-2007-009 | Kansas City, KS | Safety Zones (Parts 147 and 165) | 6/30/2007
COTP Upper Mississippi River-2007-010 | St. Louis, MO | Safety Zones (Parts 147 and 165) | 5/4/2007
COTP Upper Mississippi River-2007-011 | St. Louis, MO | Safety Zones (Parts 147 and 165) | 5/7/2007
COTP Upper Mississippi River-2007-012 | St. Louis, MO | Safety Zones (Parts 147 and 165) | 5/14/2007
COTP Upper Mississippi River-2007-013 | St. Louis, MO | Safety Zones (Parts 147 and 165) | 5/15/2007
COTP Upper Mississippi River-2007-014 | St. Louis, MO | Safety Zones (Parts 147 and 165) | 5/19/2007
COTP Upper Mississippi River-2007-015 | St. Louis, MO | Safety Zones (Parts 147 and 165) | 5/31/2007
COTP Upper Mississippi River-2007-016 | St. Louis, MO | Safety Zones (Parts 147 and 165) | 7/4/2007
COTP Upper Mississippi River-2007-017 | St. Louis, MO | Safety Zones (Parts 147 and 165) | 7/4/2007
COTP Upper Mississippi River-2007-018 | St. Louis, MO | Safety Zones (Parts 147 and 165) | 7/4/2007
COTP Upper Mississippi River-2007-019 | St. Louis, MO | Safety Zones (Parts 147 and 165) | 7/4/2007
COTP Upper Mississippi River-2007-020 | St. Louis, MO | Security Zones (Part 165) | 7/3/2007
COTP Upper Mississippi River-2007-021 | St. Louis, MO | Security Zones (Part 165) | 7/6/2007
COTP Upper Mississippi River-2007-026 | St. Louis, MO | Security Zones (Part 165) | 8/1/2007
COTP Upper Mississippi River-2007-027 | St. Louis, MO | Safety Zones (Parts 147 and 165) | 8/25/2007
COTP Upper Mississippi River-2007-028 | St. Louis, MO | Safety Zones (Parts 147 and 165) | 9/2/2007
COTP Upper Mississippi River-2007-029 | St. Louis, MO | Safety Zones (Parts 147 and 165) | 9/2/2007
COTP Upper Mississippi River-2007-030 | St. Louis, MO | Safety Zones (Parts 147 and 165) | 9/8/2007
COTP Upper Mississippi River-2007-031 | St. Louis, MO | Safety Zones (Parts 147 and 165) | 9/14/2007
COTP Upper Mississippi River-2007-032 | St. Louis, MO | Safety Zones (Parts 147 and 165) | 9/8/2007
COTP Western Alaska-2007-001 | Kodiak Island, AK | Safety Zones (Parts 147 and 165) | 5/24/2007

[FR Doc. E9-24135 Filed 10-8-09; 8:45 am]

BILLING CODE 4910-15-P